NATIONAL SCIENCE FOUNDATION

Agency Information Collection Activities: Comment Request

AGENCY: National Science Foundation.

ACTION: Submission for OMB Review; Comment Request.

SUMMARY: Under the Paperwork Reduction Act of 1995, Public Law 104-13 (44 U.S.C. 3501 et seq.), and as part of its continuing effort to reduce paperwork and respondent burden, the National Science Foundation (NSF) is inviting the general public and other Federal agencies to comment on this proposed continuing information collection. This is the second notice for public comment; the first was published in the Federal Register at 78 FR 68479, November 14, 2013, and no substantial comments were received. NSF is forwarding the proposed submission to the Office of Management and Budget (OMB) for clearance simultaneously with the publication of this second notice. This collection adds five new questions to the Medical History section of the forms. Three questions are related to Tuberculosis and were added to give medical examiners better information on which to base further testing, including whether to expose participants to additional doses of radiation. Two questions are related to diving. They were added to inform the medical examiners and healthcare providers of any pre-existing medical issues for those engaging in scientific diving in the Polar Regions. The full submission may be found at http://www.reginfo.gov/public/do/PRAMain.

DATES: Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

ADDRESSES: Written comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street NW., Room 10235, Washington, DC 20403, and to Suzanne H. Plimpton, Reports Clearance Officer, National Science Foundation, 4201 Wilson Boulevard, Suite 1265, Arlington, VA 22230 or send email to splimpto@nsf.gov.

FOR FURTHER INFORMATION CONTACT: Suzanne H. Plimpton, NSF Reports Clearance Officer at (703) 292-7556 or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

1. Title of Collection: Medical Clearance Process for Deployment to the Polar Regions (specified regions in the Arctic and all locations in the Antarctic under the auspices of the U.S. Antarctic Program).

OMB Control No.: 3145-0177.

2. Type of Request: Intent to seek approval to renew an information collection for three years

3. Abstract:

(a) Proposed Project: All individuals who anticipate deploying to Antarctica under the auspices of the U.S. Antarctic Program or to certain regions of the Arctic under NSF/Geosciences Division of Polar Programs Arctic Program (Arctic Program) are required to take and pass a rigorous physical examination prior to deploying. The physical examination includes a personal medical history, medical examination, a dental examination and for those persons planning to winter over in Antarctica a psychological examination is also required. The requirement for this determination of physical status is found in 42 U.S.C. 1870 (Authority) and 62 FR 31522, June 10, 1997 (Source), unless otherwise noted. This part sets forth the procedures for medical screening to determine whether candidates for participation in the U.S. Antarctic [[Page 216]] or Arctic Program are physically qualified and psychologically adapted for assignment or travel to either of these Polar Regions. Examinations are necessary to determine the presence of any physical, dental or psychological (when applicable) conditions that would threaten the health or safety of the candidate or other U.S. Antarctic or Arctic Program participants or that could not be effectively treated by the limited medical care capabilities in the polar regions.

(b) Presidential Memorandum No. 6646 (February 5, 1982) (available from the National Science Foundation, Division of Polar Programs, Room 755, 4201 Wilson Blvd., Arlington, VA 22230) sets forth the National Science Foundation's overall management responsibilities for the entire U.S. national program in Antarctica.

4. Use of the Information: All of the information requested on the forms in the proposed packet will be used to screen out individual participant's whose physical qualifications for traveling to and working in the harsh environments of the Polar Region(s) to which assigned do not meet the requirements specified in NSF Polar Medical Screening Guidelines. The information on the forms includes the traveler's personal and emergency points of contact, deployment information (location, dates, employer, job titles), personal medical history, and social behavior (alcohol and tobacco use). This information helps inform the medical providers of the participant's current within 12 months and past physical, dental and in some cases, psychological conditions to assist in determining their suitability for deployment and work in the extreme environments of the Polar Regions. Additionally, each person is given a personalized list of laboratory testing requirements with instructions to the doctors and dentists performing the examinations (including accompanying forms for them to complete) that will inform the medical decision makers. The packet also contains acknowledgement and consent documents that individuals need to read and sign or initial. These include: Important notices regarding potential penalties for engaging in illegal activities in countries being transited en route to Antarctica, medical risks of traveling to the Polar Regions, medical screening for blood-borne pathogens and a medical treatment consent form for minors deploying to the Polar Regions. The medical packet also includes a set of waiver documents for those individuals who do not meet the requirements of the Polar Medical Screening Guidelines but would like to be granted an administrative waiver for the identified medically disqualifying condition. The information collected in the waiver packet is used to ensure the individual knows and understands the reason for the disqualification and the employer is aware of the employee's disqualification and they both believe the individual can still participate in the program without unnecessarily risking his or her health and safety or that of others. The information is used by the medical providers to make recommendations to NSF regarding the feasibility of granting or denying the waiver. The information is used by NSF to determine whether a waiver is warranted.

5. Format of the Forms: The renewal forms have been converted to electronic format with a computer-generated unique control and tracking number. This number will be sequentially assigned by a database called Pipeline and will appear at the top of each page of the electronic version, which will also pre-populate the participant's name and date of birth on each page. Previous submissions of these forms included two sets: one for the Antarctic and one for the Arctic participants, with no distinguishable difference in actual medical information collected. The differences were in specific locations of deployment and in the number and titles assigned to the forms to make it easier for the participants. Additionally, the previous medical packet included 11 different forms (mostly numbered consecutively) plus mandatory reading materials and instructions to the participants and to their personal physicians. The current submission has combined the previous 1400 series Antarctic and Arctic forms into one set with one form number to be used by all non-uniformed participants regardless of the Polar Region to which the individual will be deploying. The new form consolidates all of the information (except the waiver packet) from the previous forms into one continuous 14-page form (NSF Form 1700) with a separate six-page mandatory reading packet. The forms will be available on NSF U.S. Antarctic Program's Web site: http: //usap.gov; and on CH2M Hill Polar Services', NSF prime support contractor for the Arctic Program, Web site: http:// cpspolar.com/medical/medical-forms and by written or telephonic request to the prime support contractors subcontractor, University of Texas Medical Branch at Galveston—Polar Medical Operations; or from NSF Geosciences Division of Polar Programs (PLR). These forms are intended to be controlled and completed electronically and individuals will be encouraged to do so; but, participants may obtain and complete the forms by hand or typewriter, if they prefer. No version of the completed forms may be submitted electronically due to insecure email transmissions; but individuals may complete the forms, save and retrieve the data on their personal computers. The waiver packet consists of four pages (the employee's application and release of liability statement and the employer's endorsement and release of liability statement). It is in paper form and is only sent to those individuals who are found not physical qualified and who specifically request to be considered for a waiver (less than 2%). It is not made available for download from any of the Web sites previously cited.

6. Estimate of Burden: Public reporting burden for this collection of information varies according to the amount of time the participant takes to read the instructions and mandatory reading material, the overall health of the individual, the amount of research required to complete the forms, the time it takes to make an appointment, take the examination and schedule and complete any follow-up medical, dental or psychological requirements and the time involved in providing additional information, when it is needed. The estimated processing time is up to six weeks from the time the individual receives the forms until he or she is notified by the contractor of his or her final clearance status. An additional period of up to eight weeks may be required for the individual, who was disqualified, to be notified of the disqualification, to request and receive the waiver packet, to obtain employer support and complete the waiver request, to do any follow-up testing, to return the waiver request plus any follow-up information to the contractor, for the contractor to forward the completed packet to NSF, and for NSF to make and promulgate a decision.

In addition to NSF Forms, the contractor prepares and sends a tailored transmittal email to each participant, based on the participant's employing organization. This email transmits (1) the medical forms; (2) mandatory reading materials and provides specific instructions for the participants and their personal physicians to follow; and (3) an unnumbered personalized checklist of all laboratory, shots and specialized exam requirements specific to that individual.

7. Respondents: All individuals deploying to the Antarctic and certain Arctic areas under the auspices of the U.S. Antarctic Program or the Arctic Program must complete these forms. There are approximately 3,300 submissions per year.

Estimated Number of Responses per Form: There is only one form with several parts. Responses range from 2 to approximately 238 responses per Part.

8. Estimated Total Annual Burden on Respondents: The total annual burden in hours, broken down by form varies according to the individual's ready access to the required information. However, a minimum of 6,600 hours annually is required if all requested information is available at the time the individuals fill out the forms and if all individuals use the electronic version of the form to provide the data. The form is programmed not to print until all data fields have been answered. An additional 27,000 hours is required to gather the data; read all the mandatory and instructional materials; make and keep examination appointments; and travel to and from those appointments.

9. Frequency of Responses: Individuals must complete the forms annually to be current within 12 months of their anticipated redeployment dates. Depending on an individual's medical status some persons may require additional laboratory results to be current within two to six-weeks of anticipated deployment.

Dated: April 22, 2014.
Suzanne H. Plimpton,
Reports Clearance Officer.

[FR Doc. 2014-09418 Filed 4-24-14; 8:45 am]

BILLING CODE 7555-01-P